SECURITIES AND EXCHANGE COMMISSION

[Release No. 34-53398A; File No. SR-Amex-2005-107]

Self-Regulatory Organizations; American Stock Exchange, Inc.; Notice of Filing of Proposed Rule Change and Amendment Nos. 1 and 2 Relating To Amending Exchange Delisting Rules To Conform to Recent Amendments to Commission Rules Regarding Removal From Listing and Withdrawal From Registration

March 17, 2006.

Correction

In FR Document No. E6-3490, beginning on page 12738 for Monday March 13, 2006, the release heading in the text of column 2 on page 12738, which provides a description of the release, was incorrectly stated. The heading should read as follows:

Self-Regulatory Organizations; American Stock Exchange LLC.; Notice of Filing of Proposed Rule Change and Amendment Nos. 1 and 2 Relating to Amending Exchange Delisting Rules to Conform to Recent Amendments to Commission Rules Regarding Removal from Listing and Withdrawal from Registration

Also in FR Document No. E6-3490, beginning on page 12738 for Monday March 13, 2006, the first full sentence in the text of column 2 on page 12738, which states that the American Stock Exchange, Inc. filed with the Securities and Exchange Commission a proposed rule change, was incorrectly stated. The sentence should read as follows:

Pursuant to Section 19(b)(1) of the Securities Exchange Act of 1934 (the “Act”),¹ and Rule 19b-4 thereunder,² notice is hereby given that on October 24, 2005, the American Stock Exchange LLC. (“Amex” or “Exchange”) filed with the Securities and Exchange Commission (”Commission”) the proposed rule change as described in Items I, II, and III below, which Items have been substantially prepared by the Exchange.

¹ 15 U.S.C. 78s(b)(1).

² 17 CFR 240.19b-4.

³ 17 CFR 200.30-3(a)(12).

For the Commission, by the Division of Market Regulation, pursuant to delegated authority.³
Nancy M. Morris,
Secretary.

[FR Doc. E6-4185 Filed 3-22-06; 8:45 am]

BILLING CODE 8010-01-P